DEPARTMENT OF ENERGY

Federal Energy Regulatory Commission

Notice of Request for Extension of Time To Commence and Complete Project Construction

June 1, 2001.

Take notice that the following hydroelectric application has been filed with the Commission and is available for public inspection:

a. Application Type: Request for Extension of Time.

b. Project No.: 10395-024.

c. Date Filed: April 26, 2001.

d. Applicant: City of Augusta, Kentucky.

e. Name and Location of Project: The Meldahl Hydroelectric Project is to be located at the U.S. Army Corps of Engineers' Meldahl Locks and Dam on the Ohio River in Bracken County, Kentucky.

f. Filed Pursuant to: Public Law 105-213 and sections 4.200(c) and 4.202(a) of the Commission's regulations.

g. Applicant Contacts: Mr. Edward J. Rudd, Counsel to the City of Augusta, P.O. Box 25, Brooksville, KY 41004, (606) 735-2950 and Mr. John R. Molm, Troutman Sanders, LLP, 401 9th Street, NW., Suite 1000, Washington, DC 20004-2134, (202) 274-2957.

h. FERC Contact: James Hunter, (202) 219-2839.

i. Deadline for filing comments, protests, and motions to intervene: July 6, 2001.

All documents (original and eight copies) should be filed with: David P. Boergers, Secretary, Federal Energy Regulatory Commission, 888 First Street, NE., Washington, DC 20426. Comments, protests, and motions to intervene may be filed electronically via the internet in lieu of paper. See, 18 CFR 385.2001(a)(1)(iii) and the instructions on the Commission's web site at http://www.ferc.fed.us/efi/doorbell.htm.

Please include the project number (P-10395-024) on any comments or motions filed.

j. Description of Proposal: The Applicant requests an extension of time to July 31, 2003, to commence construction, as authorized by Public Law 105-213. In support of its request, the Applicant states that the project is not economical using a conventional construction design in the current market-based environment. The Applicant notes that it is exploring alternative designs, has published requests for such designs, and is awaiting responses. The Applicant states further that if it determines an alternative design to be feasible, it will seek appropriate amendments to its license. The deadline for completion of construction would be extended to July 31, 2005.

k. Locations of the application: A copy of the application is available for inspection and reproduction at the Commission's Public Reference Room, located at 888 First Street, NE., Room 2A, Washington, DC 20426, or by calling (202) 208-1371. The application may be viewed on the web at www.ferc.fed.us/online/rims.htm (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-14355 Filed 6-6-01; 8:45 am]

BILLING CODE 6717-01-M